FEDERAL COMMUNICATIONS COMMISSION

47 CFR Part 20

[CC Docket No. 94-102; DA 02-2423]

Enhanced 911 Emergency Calling; Use of Non-Initialized Wireless Phones

AGENCY: Federal Communications Commission.

ACTION: Final rule; stay of effective date.

SUMMARY: This document responds to a petition for reconsideration of a previous decision in this proceeding, by granting a request for stay of two of the Commission's rules imposing requirements for programming donated non-service-initialized phones and newly manufactured “911-only” wireless handsets with a code number as the telephone number/mobile identification number. Such phones currently lack such an identifying number and therefore do not have “call-back” capability. This inability to reach a caller, when such phones are used in emergency situations, can lead to critical delays in response time. The action is taken because the importance of the call-back issue to public safety and the merits of the arguments raised in the petition for reconsideration warrant further investigation before any rules are implemented.

DATES: Sections 20.18(l)(1)(i) and (l)(2)(i), added at 67 FR 36112, May 23, 2002, are stayed indefinitely effective October 1, 2002. The Commission will publish a document in the Federal Register when a final decision regarding these rule sections is reached.

FOR FURTHER INFORMATION CONTACT: David Siehl, Attorney,202-418-1310.

SUPPLEMENTARY INFORMATION: This is a summary of the Order in CC Docket No. 94-102; DA 02-2423, adopted and released on September 30, 2002. The complete text of this Order is available for inspection and copying during normal business hours in the FCC Reference Information Center, Courtyard Level, 445 12th Street, SW., Washington, DC, and also may be purchased from the Commission's copy contractor, Qualex International, Portals II, 445 12th Street, SW., Room CY-B402, Washington, DC 20554, telephone 202-863-2893, facsimile 202-863-2898, or via e-mail at qualexint@aol.com. Alternative formats (computer diskette, large print, audio cassettes, and Braille) are available to persons with disabilities by contacting Brian Millin at 202-418-7426, TTY 202-418-7365, or at bmillin@fcc.gov.

Synopsis of the Order

1. The Order grants a Request for Stay of 47 CFR 20.28(l)(1)(i) and (l)(2)(i) as adopted in the Report and Order published at 67 FR 36112, May 23, 2002. These rules impose requirements for programming both donated non-service-initialized phones and newly manufactured “911-only” wireless handsets with the code 123-456-7890 as the telephone number/mobile identification number. The purpose of the rules is to address the lack of call-back capability when 911 calls are dialed from these wireless devices.

2. A Request for Stay of the rules was filed by the Emergency Services Interconnection Forum (ESIF), which is a sponsored committee of the Alliance for Telecommunications Industry Solutions and is comprised of Commercial Mobile Radio Service carriers, wireless handset vendors, and public safety representatives. A Public Notice soliciting comment on this Request for Stay was published at 67 FR 46909, July 17, 2002.

3. In examining ESIF's Request for Stay, the Order finds that a stay is warranted in this case based on the likelihood of success on the merits of a Petition for Reconsideration of the Report and Order (Reconsideration Petition), also filed by ESIF, and the lack of injury to third parties if the Stay Request is granted. Issuance of a stay will allow further consideration of a solution, raised by ESIF in its Reconsideration Petition, for 911 calls from donated non-initialized wireless phones and 911-only wireless handsets that the Commission has not previously reviewed in this proceeding and that possesses certain potential advantages over the approach adopted in the Report and Order.

Ordering Clause

4. It is therefore ordered, pursuant to Sections 4(i), 11, 303(g), and 303(r) of the Communications Act of 1934, as amended, 47 U.S.C. 154(i), 161, 303(g), and 303(r) that 1 the Request for Stay filed by Emergency Services Interconnection Forum on June 12, 2002, is granted and will remain in effect until the Commission resolves the Petition for Reconsideration. The Commission will then publish a document in the Federal Register regarding these rules.

List of Subjects in 47 CFR Part 20

Communications common carrier, Communications equipment, Radio.

Federal Communications Commission.
Marlene H. Dortch,
Secretary.

[FR Doc. 02-26237 Filed 10-10-02; 11:25 am]

BILLING CODE 6712-01-P